DEPARTMENT OF AGRICULTURE

Agricultural Marketing Service

[Doc. No. AMS SC-18-0056; SC18-981-4]

Notice of Request for Approval of New Information Collection for Almonds Grown in California (Marketing Order No. 981)

AGENCY: Agricultural Marketing Service, USDA.

ACTION: Notice and request for comments.

SUMMARY: In accordance with the Paperwork Reduction Act of 1995, this notice announces the Agricultural Marketing Service's (AMS) intention to request approval for ballots and a petition form used to collect nominations of members and alternates to serve on the Board. Once approved, the forms would be merged with other forms the Board and AMS uses to collect information under Federal Marketing Order No. 981, Almonds Grown in California.

DATES: Comments on this notice must be received by November 13, 2018.

Additional Information: Contact Andrew Hatch, Supervisory Marketing Specialist, Marketing Order and Agreement Division, Specialty Crops Program, AMS, USDA, 1400 Independence Avenue SW, Stop 0237, Washington, DC 20250-0237; (202) 720-2491, Fax: (202) 720-8938, or Email: andrew.hatch@ams.usda.gov.

Small businesses may request information on this notice by contacting Richard Lower, Marketing Order and Agreement Division, Specialty Crops Program, AMS, USDA, 1400 Independence Avenue SW, STOP 0237, Washington, DC 20250-0237; telephone (202) 720-2491, Fax: (202) 720-8938, or Email: richard.lower@ams.usda.gov.

Comments: Comments are welcome and should reference OMB No. 0581-NEW and the Marketing Order for Almonds Grown in California, Marketing Order No. 981, and the date and page number of this issue of the Federal Register. Comments may be submitted by mail to the Docket Clerk, Specialty Crops Program, AMS, USDA, 1400 Independence Avenue SW, Stop 0237, Room 1406-S, Washington, DC 20250-0237; Fax: (202) 720-8938; or submitted online at http://www.regulations.gov. All comments received will be available for public inspection in the Office of the Docket Clerk during regular USDA business hours or they can be viewed at www.regulations.gov.

SUPPLEMENTARY INFORMATION:

Title: Almonds Grown in California, Marketing Order No. 981.

OMB Number: 0581-NEW.

Expiration Date of Approval: This is a NEW collection.

Type of Request: Approval of New Information Collection.

Abstract: Under the Agricultural Marketing Agreement Act of 1937 (AMAA), as amended (7 U.S.C. 601-674), fresh fruits, vegetables and specialty crop industries can create marketing order programs that provide an opportunity for producers, in a specified production area, to work together to solve marketing problems. The Secretary of Agriculture is authorized to oversee the marketing order operations and to consider the issuance of regulations recommended by a committee of representatives from each commodity industry.

The Almond Marketing Order, as amended, (7 CFR part 981), hereinafter referred to as the “Order” regulates the handling of almonds grown in California. The Order authorizes research and promotion activities, as well as quality regulations, and provides for the establishment of the Almond Board of California (Board).

The Board locally administers the Order with USDA oversight. Board members and alternates are appointed by USDA from nominations submitted by industry members to the Board. The Board conducts the nomination process with a petition form completed by individual growers and handlers to nominate themselves or others. Industry members then complete ballots to vote on those individuals whose names would be submitted to USDA for consideration for appointment to the Board. Only authorized employees of the Board, and authorized representatives of the USDA, including AMS, Specialty Crops Program's regional and headquarters staff have access to information provided on the forms.

Requesting public comments on the ballots and petition form described below is part of the process to obtain approval of the forms by the Office of Management and Budget (OMB). These forms have been designated OMB No. 0581-NEW. The forms include Independent Grower Ballot (ABC-15), Independent Handler Ballot (ABC-16), Cooperative Grower Ballot (ABC-17), Cooperative Handler Ballot (ABC-18), and Grower Petition (ABC-19). Once approved by OMB, USDA will request permission to merge the ballots and petition form into OMB No. 0581-0178 Vegetable and Specialty Crops collection that includes other forms related to the Order.

Estimate of Burden: Public reporting burden for this collection of information is estimated to average 5.03 minutes per response.

Respondents: Almond producers and handlers.

Estimated Number of Respondents: 677.

Estimated Number of Responses: 677.

Estimated Number of Responses per Respondent: 1.

Estimated Total Annual Burden on Respondents: 56.83 hours.

Comments: Comments are invited on: (1) Whether the proposed collection of the information is necessary for the proper performance of the functions of the agency, including whether the information will have practical utility; (2) the accuracy of the agency's estimate of the burden of the proposed collection of information; (3) ways to enhance the quality, utility and clarity of the information to be collected; and (4) ways to minimize the burden of the collection of information on those who are to respond, including through the use of appropriate automated, electronic, mechanical, or other technological collection techniques or other forms of information technology.

All responses to this notice will be summarized and included in the request for OMB approval. All comments will also become a matter of public record.

Dated: September 7, 2018.
Bruce Summers,
Administrator, Agricultural Marketing Service.

[FR Doc. 2018-19827 Filed 9-11-18; 8:45 am]

BILLING CODE 3410-02-P